DEPARTMENT OF ENERGY

Federal Energy Regulatory Commission

[Docket No. PR05-17-002]

Duke Energy Guadalupe Pipeline, Inc.; Notice of Staff Panel

July 7, 2006.

Take notice that the Commission will conduct a staff panel on Wednesday, July 26, 2006, at 10 a.m. Eastern Time, in a room to be designated at the Federal Energy Regulatory Commission, 888 First Street, NE., Washington, DC 20426.

The staff panel will give the parties an opportunity to raise all issues concerning whether Guadalupe's proposed base rates are fair and equitable, including not only issues concerning Guadalupe's proposed base rates but also issues concerning its proposed fuel retention percentage.

FERC conferences are accessible under section 508 of the Rehabilitation Act of 1973. For accessibility accommodations please send an e-mail to accessibility@ferc.gov or call toll free (866) 208-3372 (voice) or 202-208-1659 (TTY), or send a FAX to 202-208-2106 with the required accommodations.

All interested parties and staff are permitted to attend. For further information please contact Eric Winterbauer at (202) 502-8329 or e-mail eric.winterbauer@ferc.gov.

Magalie R. Salas,
Secretary.

[FR Doc. E6-11182 Filed 7-13-06; 8:45 am]

BILLING CODE 6717-01-P